FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 23, 2002.

A. Federal Reserve Bank of Richmond (A. Linwood Gill, III, Vice President) 701 East Byrd Street, Richmond, Virginia 23261-4528:

1. Ralph Mann and Hazel E. Mann, Union, West Virginia, to acquire additional voting shares of Union Bankshares, Inc., Union, West Virginia, and thereby indirectly acquire additional voting shares of The Bank of Monroe, Union, West Virginia.

B. Federal Reserve Bank of Chicago (Phillip Jackson, Applications Officer) 230 South LaSalle Street, Chicago, Illinois 60690-1414:

1. Ramon J. Green, Jacksonville, Illinois, as general partner of Green Enterprises, L.P. Jacksonville, Illinois, as trustee of the Ramon J. Green Trust, Jacksonville, Illinois, and co-trustee of the Beverly J. Green Trust, Jacksonville, Illinois; and Beverly J. Green, Jacksonville, Illinois, as co-trustee of the Beverly J. Green Trust, to retain control and increase their ownership in West Plains Investors, Inc., Pleasant Plains, Illinois, and thereby indirectly retain control and increase their ownership in Pleasant Plains State Bank, Pleasant Plains, Illinois.

Board of Governors of the Federal Reserve System, September 3, 2002.
Robert deV. Frierson,
Deputy Secretary of the Board.

[FR Doc. 02-22775 Filed 9-6-02; 8:45 am]

BILLING CODE 6210-01-S